DEPARTMENT OF COMMERCE

International Trade Administration

[A-533-843]

Certain Lined Paper Products From India: Preliminary Results of Antidumping Duty Administrative Review; and Preliminary Determination of No Shipments; 2021-2022

AGENCY: Enforcement and Compliance, International Trade Administration, Department of Commerce.

SUMMARY: The U.S. Department of Commerce (Commerce) preliminarily finds that producers and/or exporters subject to this administrative review made sales of subject merchandise at less than normal value (NV) during the period of review (POR), September 1, 2021, through August 31, 2022. We invite interested parties to comment on these preliminary results.

DATES: Applicable October 5, 2023.

FOR FURTHER INFORMATION CONTACT: Samuel Brummitt or Katherine Sliney, AD/CVD Operations, Office III, Enforcement and Compliance, International Trade Administration, U.S. Department of Commerce, 1401 Constitution Avenue NW, Washington, DC 20230; telephone: (202) 482-7851 or (202) 482-2437, respectively.

SUPPLEMENTARY INFORMATION:

Background

On September 28, 2006, Commerce published in the Federal Register the antidumping duty order on certain lined paper products from India.¹ On September 1, 2022, Commerce published in the Federal Register a notice of opportunity to request an administrative review of the Order.² On November 3, 2022, based on timely requests for review and in accordance with section 751(a)(1) of the Tariff Act of 1930, as amended (the Act), and 19 CFR 351.221(c)(1)(i), Commerce initiated an administrative review of the Order with respect to ten companies: Cellpage Ventures Private Limited, Dinakar Process Private Limited (Dinakar), ITC Limited-Education and Stationery Products Business (ITC Limited),³ JC Stationery (P) Ltd (JC Stationery), Lotus Global Private Limited, M/s. Bhaskar Paper Products (Bhaskar), Navneet Education Ltd (Navneet), Pioneer Stationery Private Limited, PP Bafna Ventures Private Limited, and SGM Paper Products.⁴ On February 6, 2023, Commerce selected Dinakar and Navneet as mandatory respondents in this administrative review.⁵ As noted in the Preliminary Decision Memorandum, Commerce has preliminarily determined that ITC Limited should replace Dinakar as a mandatory respondent because we preliminarily determine that ITC Limited was the price discriminator for the U.S. sales at issue during the POR.⁶ Pursuant to section 751(a)(3)(A) of the Act, Commerce extended the deadline for the preliminary results until September 29, 2023.⁷

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (Order).

² See Antidumping or Countervailing Duty Order, Finding, or Suspended Investigation; Opportunity To Request Administrative Review and Join Annual Inquiry Service List, 87 FR 53719 (September 1, 2022).

³ Commerce initiated this review on “ITC Limited-Education and Stationery Products Business” (ITC-ESPB), but record evidence indicates that ITC-ESPB is not a company but is merely a department of ITC Limited. Accordingly, ITC Limited is the entity subject to this review, not ITC-ESPB.

⁴ See Initiation of Antidumping and Countervailing Duty Administrative Reviews, 87 FR 66275 (November 3, 2022).

⁵ See Memorandum, “Respondent Selection,” dated February 6, 2023 (Respondent Selection Memorandum).

⁶ See Memorandum, “Decision Memorandum for the Preliminary Results of Antidumping Duty Administrative Review: Certain Lined Paper Products from India; 2021-2022,” dated concurrently with, and hereby adopted by, this notice (Preliminary Decision Memorandum).

⁷ See Memorandum, “Certain Lined Paper Products from India: Extension of Deadline for Preliminary Results of Antidumping Duty Administrative Review,” dated May 5, 2023.

For a complete description of the events that followed the initiation of this review, see the Preliminary Decision Memorandum.⁸ A list of topics included in the Preliminary Decision Memorandum is included in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁸ See Preliminary Decision Memorandum.

Scope of the Order

The merchandise covered by this Order is certain lined paper products. For a full description of the scope of the Order, see the Preliminary Decision Memorandum.⁹

⁹ Id.

Preliminary Determination of No Shipments

On December 5, 2022, Bhaskar, Dinakar, and JC Stationery submitted no-shipment certifications.¹⁰ Information on the record regarding U.S. Custom and Border Protection (CBP) entry data showed that Dinakar had suspended entries into the United States.¹¹ Additionally, CBP reported information that contradicted Dinakar's no-shipment claim.¹² Following supplemental filings by Dinakar and ITC Limited and ex-parte meetings with counsel, Commerce asked ITC Limited to file a full questionnaire response in this review because of its involvement in the U.S. sales associated with Dinakar.¹³ Commerce also requested that the customs entry forms that Dinakar and ITC Limited claim were filed incorrectly be revised.¹⁴ At the time of these preliminary results, there is no evidence on the record that the relevant entries have been corrected. Accordingly, Commerce preliminarily determines that the record does not support a finding of no shipments for Dinakar.

¹⁰ See Dinakar's Letter, “Certification of No Sales, Shipments, or Entries,” dated December 5, 2022; see also JC Stationery's Letter, “Certification of No Sales, Shipments, or Entries,” dated December 5, 2022; and M/s. Bhaskar's Letter, “Certification of No Sales, Shipments, or Entries,” dated December 5, 2022.

¹¹ See Commerce's Letter to Dinakar, dated April 3, 2023; see also Respondent Selection Memorandum at Attachment.

¹² See Memorandum, “Release of U.S. Customs and Border Protection Information Relating to December 22, 2022 Entry Document Request,” dated January 17, 2023.

¹³ See Dinakar's Letter, “Response to Supplemental Questionnaire Regarding No Shipment Certification,” dated December 16, 2022; see also Dinakar's Letter, “Objection to Respondent Selection and Request for Reconsideration,” dated February 10, 2023; Dinakar's Letter, “Notification of Reporting Difficulties,” dated February 24, 2023; Memorandum to the File, “Meeting with Interested Parties,” dated March 7, 2023; Dinakar's Letter, “Dinakar Process Private Limited—Section A of Initial Questionnaire,” dated March 16, 2023 (Dinakar AQR); Dinakar's Letter, “Request for Response to Dinakar's Notification of Reporting Difficulties,” dated March 30, 2023; Commerce's Letter to ITC Limited, “Initial Questionnaire,” dated April 3, 2023; and Commerce's Letter to Dinakar, dated April 3, 2023; ITC-ESPB's Letter, “ITC Limited-Education and Stationery Products Business—Section A of Initial Questionnaire,” dated May 1, 2023 (ITC-ESPB AQR); and ITC-ESPB's Letter, “ITS Limited-Education and Stationery Products Business's Response to the First Supplemental Questionnaire,” dated July 10, 2023.

¹⁴ See Commerce's Letter to Dinakar, dated March 9, 2023.

To confirm the no-shipment claims by Bhaskar and JC Stationery, on December 9, 2022, Commerce issued no-shipment inquiries to CBP.¹⁵ CBP reported that it had no information to contradict the no-shipment claims of Bhaskar and JC Stationery during the POR.¹⁶ Given that Bhaskar and JC Stationery reported that they made no shipments of subject merchandise to the United States during the POR, and there is no information calling these companies' claims into question, we preliminarily determine that Bhaskar and JC Stationery did not have any reviewable transactions during the POR. With respect to Bhaskar and JC Stationery, consistent with Commerce's practice, we will not rescind the review regarding these companies but, rather, will complete the review and issue instructions to CBP based on the final results of this review.¹⁷

¹⁵ See Memorandum, “No Shipment Inquiries,” dated December 15, 2022.

¹⁶ See Memorandum, “CBP Response to No Shipment Inquiries,” dated December 15, 2022.

¹⁷ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51307 (August 28, 2014) (citing Antidumping and Countervailing Duty Proceedings: Assessment of Antidumping Duties, 68 FR 23954 (May 6, 2003) (Automatic Assessment Clarification)).

Methodology

Commerce is conducting this review in accordance with section 751(a)(2) of the Act. Export price was calculated in accordance with section 772 of the Act. NV was calculated in accordance with section 773 of the Act. For a full description of the methodology underlying these preliminary results, see the Preliminary Decision Memorandum.

Rate for Non-Selected Companies

The Act and Commerce's regulations do not address the establishment of a rate to be applied to companies not selected for individual examination when Commerce limits its examination in an administrative review pursuant to section 777A(c)(2) of the Act. Generally, Commerce looks to section 735(c)(5) of the Act, which provides instructions for calculating the all-others rate in an investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.”

In this segment of the proceeding, because the rate calculated for Navneet is zero, we have preliminarily assigned a dumping margin to these companies based on the weighted-average dumping margin calculated for ITC Limited.

Preliminary Results of Review

We preliminarily determine that the following estimated weighted-average dumping margins exist for the period September 1, 2021, through August 31, 2022:

Producer/exporter | Weighted- average dumping margin (percent)
ITC Limited | 23.16
Navneet Education Ltd | 0.00
Cellpage Ventures Private Limited | 23.16
Dinakar Process Private Limited | 23.16
Lotus Global Private Limited | 23.16
Pioneer Stationery Private Limited | 23.16
PP Bafna Ventures Private Limited | 23.16
SGM Paper Products | 23.16

Disclosure and Public Comment

We intend to disclose the calculations used for these preliminary results to interested parties within five days of the date of publication of this notice in accordance with 19 CFR 351.224(b).¹⁸ Commerce also intends to issue post-preliminary supplemental questionnaires subsequent to the publication of this notice. Thus, Commerce will announce the briefing schedule to interested parties at a later date. Interested parties may submit case briefs on the deadline that Commerce will announce. Rebuttal briefs, limited to issues raised in the case briefs, may be filed no later than seven days after the date for filing case briefs.¹⁹ Parties who submit case briefs or rebuttal briefs in this review are encouraged to submit with each argument: (1) a statement of the issue; (2) a brief summary of the argument; and (3) a table of authorities.²⁰ Executive summaries should be limited to five pages total, including footnotes. All briefs must be filed electronically using ACCESS.

¹⁸ See 19 CFR 351.224(b).

¹⁹ See 19 CFR 351.309(d)(1); see also Temporary Rule Modifying AD/CVD Service Requirements Due to COVID-19; Extension of Effective Period, 85 FR 41363 (July 10, 2020) (Temporary Rule).

²⁰ See 19 CFR 351.309(c)(2) and (d)(2) and 19 CFR 351.303 (for general filing requirements).

Pursuant to 19 CFR 351.310(c), interested parties who wish to request a hearing must submit a written request to the Assistant Secretary for Enforcement and Compliance, within 30 days after the date of publication of this notice in the Federal Register.²¹ Requests should contain: (1) the party's name, address, and telephone number; (2) the number of participants; (3) whether any participant is a foreign national; and (4) a list of issues to be discussed. Issues raised in the hearing will be limited to those raised in the respective case and rebuttal briefs.²² If a request for a hearing is made, Commerce will announce the date and time of the hearing. Parties should confirm by telephone the date, time, and location of the hearing two days before the scheduled hearing date.

²¹ See 19 CFR 351.310(c).

²² See 19 CFR 351.310(c).

Note that Commerce has temporarily modified certain of its requirements for serving documents containing business proprietary information, until further notice.²³ An electronically filed document must be received successfully in its entirety in ACCESS by 5:00 p.m. Eastern Time on the due date.

²³ See Temporary Rule, 85 FR at 41363-41364.

We intend to issue the final results of this administrative review, including the results of our analysis of the issues raised in any written briefs, not later than 120 days after the date of publication of this notice, unless extended, pursuant to section 751(a)(3)(A) of the Act.

Assessment Rates

Upon issuance of the final results of this review, Commerce shall determine, and CBP shall assess, antidumping duties on all appropriate entries covered by this review. If the weighted-average dumping margin for a mandatory respondent is not zero or de minimis (i.e., greater than or equal to 0.5 percent) in the final results of this review, we will calculate an importer-specific ad valorem antidumping duty assessment rate based on the ratio of the total amount of dumping calculated for each importer's examined sales and the total entered value of those same sales, in accordance with 19 CFR 351.212(b)(1).²⁴ If a mandatory respondent has not reported entered values, we will calculate a per-unit assessment rate for each importer by dividing the total amount of dumping calculated for the examined sales made to that importer by the total quantity associated with those transactions. To determine whether an importer-specific, per-unit assessment rate is de minimis, in accordance with 19 CFR 351.106(c)(2), we also will calculate an importer-specific ad valorem ratio based on estimated entered values. If the weighted-average dumping margin is zero or de minimis, or an importer-specific assessment ad valorem rate is zero or de minimis, we intend to instruct CBP to liquidate appropriate entries without regard to antidumping duties. The final results of this review shall be the basis for the assessment of antidumping duties on entries of merchandise covered by this review where applicable.²⁵

²⁴ See Antidumping Proceedings: Calculation of the Weighted-Average Dumping Margin and Assessment Rate in Certain Antidumping Proceedings: Final Modification, 77 FR 8101, 8103 (February 14, 2012).

²⁵ See section 751(a)(2)(C) of the Act.

For entries of subject merchandise during the POR produced by Navneet or ITC Limited for which they did not know their merchandise was destined for the United States, we will instruct CBP to liquidate those entries at the all-others rate (i.e., 3.91 percent) ²⁶ if there is no rate for the intermediate company(ies) involved in the transaction.

²⁶ See Order, 71 FR 56952.

For the companies which were not selected for individual examination, we intend to assign an antidumping duty assessment rate equal to the weighted-average dumping margin determined for the non-examined companies in the final results of review.

We intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for companies subject to this review will be equal to the company-specific weighted-average dumping margin established in the final results of this administrative review, except if the rate is less than 0.50 percent and, therefore, de minimis within the meaning of 19 CFR 351.106(c)(1), in which case the cash deposit rate will be zero; (2) for previously reviewed or investigated companies not listed above, the cash deposit rate will continue to be the company-specific rate published for the most recently completed segment of this proceeding in which the company participated; (3) if the exporter is not a firm covered in this review, a prior review, or the less-than-fair-value investigation (LTFV) investigation, but the producer is, the cash deposit rate will be the rate established for the most recently completed segment of this proceeding for the producer of the merchandise; and (4) the cash deposit rate for all other producers or exporters will continue to be the all-others rate of 3.91 percent, the rate established in the LTFV investigation of this proceeding.²⁷ These cash deposit requirements, when imposed, shall remain in effect until further notice.

²⁷ See Order, 71 FR 56952.

Notification to Importers

This notice also serves as a preliminary reminder to importers of their responsibility under 19 CFR 351.402(f)(2) to file a certificate regarding the reimbursement of antidumping duties and/or countervailing duties prior to liquidation of the relevant entries during this review period. Failure to comply with this requirement could result in Commerce's presumption that reimbursement of antidumping duties occurred and the subsequent assessment of double antidumping duties.

Notification to Interested Parties

We are issuing and publishing these preliminary results of review in accordance with sections 751(a)(1) and 777(i)(1) of the Act, and 19 CFR 351.213(h)(2) and 19 CFR 351.221(b)(4).

Dated: September 28, 2023.
Lisa W. Wang,
Assistant Secretary for Enforcement and Compliance.

Appendix

List of Topics Discussed in the Preliminary Decision Memorandum

I. Summary

II. Background

III. Scope of the Order

IV. Preliminary Determination of No Shipments

V. Companies Not Selected for Individual Examination

VI. Discussion of the Methodology

VII. Currency Conversion

VIII. Recommendation

[FR Doc. 2023-22125 Filed 10-4-23; 8:45 am]

BILLING CODE 3510-DS-P